DEPARTMENT OF THE INTERIOR

National Park Service

[NPS-WASO-NRNHL-DTS#-25514; PPWOCRADI0, PCU00RP14.R50000]

National Register of Historic Places; Notification of Pending Nominations and Related Actions

AGENCY: National Park Service, Interior.

ACTION: Notice.

SUMMARY: The National Park Service is soliciting comments on the significance of properties nominated before April 28, 2018, for listing or related actions in the National Register of Historic Places.

DATES: Comments should be submitted by May 31, 2018.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before April 28, 2018. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ARKANSAS

Carroll County

Eureka Springs Cemetery, NW of jct. of Cty. Rd. 205 & US 62 E, Eureka Springs vicinity, SG100002535

IOWA

Cerro Gordo County

Elmwood—St. Joseph Municipal Cemetery Historic District, 1224 S Washington Ave., Mason City, SG100002541

MASSACHUSETTS

Plymouth County

Emerson Shoe Company, 51 Maple St., Rockland, SG100002542

OKLAHOMA

Jackson County

Downtown Altus Historic District, Broadway, Main, Hudson & Commerce Sts., Altus, SG100002543

Muskogee County

Thomas, Reverend L.W., Homestead, 5805 Oktaha Rd., Summit vicinity, SG100002544

Oklahoma County

Pioneer Telephone Company Warehouse and Garage, 1-13 NE 6th St., Oklahoma City, SG100002545

Tulsa County

Cheairs Furniture Company Building, 537 S Kenosha Ave., Tulsa, SG100002546

Vernon A.M.E. Church, 311 N Greenwood Ave., Tulsa, SG100002547

Additional documentation has been received for the following resource:

ILLINOIS

Cook County

Emmanuel Episcopal Church, 203 S. Kensington Ave., LaGrange, AD100001922

Authority: Section 60.13 of 36 CFR part 60.

Dated: April 30, 2018.
Julie H. Ernstein,
Acting Chief, National Register of Historic Places/National Historic Landmarks Program.

[FR Doc. 2018-10371 Filed 5-15-18; 8:45 am]

BILLING CODE 4312-52-P